DEPARTMENT OF TRANSPORTATION

Pipeline and Hazardous Materials Safety Administration

49 CFR Parts 191, 192, and 193

[Docket No. PHMSA-2024-0005]

Pipeline Safety: Meeting of the Gas Pipeline Advisory Committee

AGENCY: Pipeline and Hazardous Materials Safety Administration (PHMSA), Department of Transportation (DOT).

ACTION: Notice of advisory committee meeting; extension of comment period.

SUMMARY: On February 20, 2024, PHMSA published a Federal Register notice titled: “Pipeline Safety: Meeting of the Gas Pipeline Advisory Committee,” which provided an opportunity for public comment by April 29, 2024, on the proceedings of the Gas Pipeline Advisory Committee (GPAC) meeting related to the notices of proposed rulemakings (NPRMs) titled “Gas Pipeline Leak Detection and Repair” (LDAR) and “Class Location Change Requirements” (Class Location). PHMSA received a request to extend the comment period for stakeholders to have more time to provide comments on the topics of discussion. PHMSA is denying the request to extend the comment period for the GPAC proceedings related to the LDAR NPRM, but PHMSA is granting the request to extend the comment period for the GPAC proceedings related to the Class Location NPRM to August 27, 2024.

DATES: The comment period for the proposed rule published February 2024, at 89 FR 12798, is extended. Comments should be received on or before August 27, 2024, for comments on GPAC proceedings related to the Class Location NPRM. The closing date for filing comments is April 29, 2024, for comments on GPAC proceedings related to the LDAR NPRM. Consistent with 49 CFR 190.323, the agency will consider late-filed comments to the extent practicable.

ADDRESSES: You may submit comments identified by the docket number PHMSA-2024-0005 by any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System, West Building Ground Floor, Room W12-140, 1200 New Jersey Avenue SE, Washington, DC 20590-0001 between 9 a.m. and 5 p.m., Monday through Friday, except Federal holidays.

Fax: 1-202-493-2251.

Instructions: Please include the docket number PHMSA-2024-0005 at the beginning of your comments. If you submit your comments by mail, submit two copies. If you wish to receive confirmation that PHMSA has received your comments, include a self-addressed stamped postcard. Internet users may submit comments at https://www.regulations.gov/.

Note: Comments are posted without changes or edits to https://www.regulations.gov, including any personal information provided. There is a privacy statement published on https://www.regulations.govhttps://www.regulations.gov.

Privacy Act: In accordance with 5 U.S.C. 553(c), DOT solicits comments from the public to better inform its rulemaking process. DOT posts these comments, without edit, including any personal information the commenter provides, to www.regulations.gov, as described in the system of records notice (DOT/ALL-14 FDMS), that can be reviewed at www.dot.gov/privacy.

Confidential Business Information: Confidential Business Information (CBI) is commercial or financial information that is both customarily and actually treated as private by its owner. Under the Freedom of Information Act (FOIA, 5 U.S.C. 552), CBI is exempt from public disclosure. If your comments responsive to this document contain commercial or financial information that is customarily treated as private, that you actually treat as private, and that is relevant or responsive to this notice, it is important that you clearly designate the submitted comments as CBI. Pursuant to 49 CFR 190.343, you may ask PHMSA to give confidential treatment to information you give to the agency by taking the following steps: (1) mark each page of the original document submission containing CBI as “Confidential”; (2) send PHMSA, along with the original document, a second copy of the original document with the CBI deleted; and (3) explain why the information you are submitting is CBI. Submissions containing CBI should be sent to Tewabe Asebe, Office of Pipeline Safety, by phone at 202-366-5523 or by email at tewabe.asebe@dot.gov. Any commentary PHMSA receives that is not specifically designated as CBI will be placed in the public docket.

Docket: For access to the docket to read background documents or comments received, go to https://www.regulations.gov. Follow the online instructions for accessing the docket. Alternatively, you may review the documents in person at the street address listed above.

FOR FURTHER INFORMATION CONTACT: Tewabe Asebe, Office of Pipeline Safety, by phone at 202-366-5523 or by email at tewabe.asebe@dot.gov.

SUPPLEMENTARY INFORMATION:

On February 20, 2024, PHMSA published a Federal Register notice (89 FR 12798) announcing its plans to hold a public meeting of the Technical Pipeline Safety Standards Committee, also known as the Gas Pipeline Advisory Committee (GPAC), to complete discussion on the notices of proposed rulemakings (NPRMs) titled “Gas Pipeline Leak Detection and Repair” and “Class Location Change Requirements.” In the notice, PHMSA announced that the public meeting would be held from March 25, 2024, to March 29, 2024, and specified that comments on the proceedings of the GPAC meeting must be submitted by April 29, 2024.

Following the conclusion of the meeting, PHMSA received a joint comment extension request from the Interstate Natural Gas Association of America, American Fuel and Petrochemical Manufacturers, American Gas Association, American Petroleum Institute, American Public Gas Association, and the GPA Midstream Association (the Associations). The Associations requested an additional 60 days to provide comment on the GPAC proceedings pertaining to the LDAR NPRM, which would change the comment deadline to June 28, 2024. The Associations also requested an additional 120 days to provide comment on the GPAC proceedings pertaining to the Class Location NPRM, changing the comment deadline to August 27, 2024.

PHMSA received comments from public interest and environmental groups opposing the extension of the comment period for GPAC proceedings pertaining to the “Gas Pipeline Leak Detection and Repair” NPRM. Noting that the rule is urgently needed to improve safety and reduce methane emissions across the millions of miles of pipelines in the Unites States, and that the Protecting Our Infrastructure of Pipelines and Enhancing Safety Act of 2020 directed PHMSA to finalize advanced leak detection and repair standards by December 2021; commenters urged PHMSA to swiftly finalize the proposed measures to improve public safety. Extending the comment period for GPAC proceedings pertaining to the Leak Detection and Repair NPRM could further delay PHMSA's finalization of that rule.

PHMSA will extend the comment submission deadline from April 29, 2024, to August 27, 2024, for comments on the GPAC proceedings pertaining to the Class Location NPRM. For comments on the GPAC proceedings pertaining to the Leak Detection and Repair NPRM, the comment submission deadline will remain April 29, 2024. Consistent with 49 CFR 190.323, PHMSA will consider late-filed comments to the extent practicable.

Issued in Washington, DC, on April 10, 2024, under authority delegated in 49 CFR 1.97.
Massoud Tahamtani,
Deputy Associate Administrator for Policy and Programs.

[FR Doc. 2024-07888 Filed 4-12-24; 8:45 am]

BILLING CODE 4910-60-P